DEPARTMENT OF JUSTICE

[OMB Number 1121-0330]

Agency Information Collection Activities; Proposed eCollection eComments Requested; Extension Without Change, of a Previously Approved Collection Law Enforcement Congressional Badge of Bravery

AGENCY: Bureau of Justice Assistance, Department of Justice.

ACTION: 60-day notice.

SUMMARY: The Department of Justice, Office of Justice Programs will be submitting the following information collection request to the Office of Management and Budget (OMB) for review and approval in accordance with the Paperwork Reduction Act of 1995. BJA's CBOB Office will use the CBOB application information to confirm the eligibility of applicants to be considered for the CBOB, and forward the application as appropriate to the Federal or the State and Local CBOB Board for their further consideration.

DATES: Comments are encouraged and will be accepted for 60 days until February 3, 2017.

FOR FURTHER INFORMATION CONTACT: If you have additional comments especially on the estimated public burden or associated response time, suggestions, or need a copy of the proposed information collection instrument with instructions or additional information, please contact Michelle Martin, Administrative Services Director Bureau of Justice Assistance, 810 Seventh Street NW., Washington, DC 20531 (phone: 202-514-9354).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Law Enforcement Congressional Badge of Bravery

3. The agency form number, if any, and the applicable component of the Department sponsoring the collection: None.

4. Affected public who will be asked or required to respond, as well as a brief abstract: Law Enforcement Agencies. Under Public Law No: 110-298 The US Department of Justice Attorney General may request voluntary nominations from an appointed Federal Board, for the names of law enforcement officers cited as performing an act of bravery while in the line of duty, for a Federal Law Enforcement Congressional Badge of Bravery award.

5. An estimate of the total number of respondents and the amount of time estimated for an average respondent to respond: An estimated 184 applicants annually.

6. An estimate of the total public burden (in hours) associated with the collection:

The estimated public burden associated with this collection is 61 hours. If additional information is required contact: Jerri Murray, Department Clearance Officer, United States Department of Justice, Justice Management Division, Policy and Planning Staff, Two Constitution Square, 145 N Street NE., 3E.405B, Washington, DC 20530.

Dated: November 29, 2016.
Jerri Murray,
Department Clearance Officer for PRA, U.S. Department of Justice.

[FR Doc. 2016-29024 Filed 12-2-16; 8:45 am]

BILLING CODE 4410-18-P